DEPARTMENT OF AGRICULTURE

Animal and Plant Health Inspection Service

[Docket No. APHIS-2011-0018]

Notice of Decision To Authorize the Importation of Fresh Persimmon From the Republic of South Africa

AGENCY: Animal and Plant Health Inspection Service, USDA.

ACTION: Notice.

SUMMARY: We are advising the public of our decision to authorize the importation into the continental United States of fresh persimmon fruit from the Republic of South Africa. Based on the findings of a pest risk analysis, which we made available to the public for review and comment through a previous notice, we believe that the application of one or more designated phytosanitary measures will be sufficient to mitigate the risks of introducing or disseminating plant pests or noxious weeds via the importation of fresh persimmon fruit from South Africa.

DATES: Effective Date: July 27, 2011.

FOR FURTHER INFORMATION CONTACT: Mr. Phillip B. Grove, Regulatory Coordinator, Regulatory Coordination and Compliance, PPQ, APHIS, 4700 River Road Unit 156, Riverdale, MD 20737-1236; (301) 734-6280.

SUPPLEMENTARY INFORMATION:

Background

Under the regulations in “Subpart—Fruits and Vegetables” (7 CFR 319.56-1 through 319.56-51, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may authorize the importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on March 21, 2011 (76 FR 15280, Docket No. APHIS-2011-0018), in which we announced the availability, for review and comment, of a PRA that evaluates the risks associated with the importation into the continental United States of fresh persimmon fruit (Diospyros kaki) from the Republic of South Africa. We solicited comments on the notice for 60 days ending on May 20, 2011. We received one comment by that date, from a State agriculture agency.

¹ To view the notice, the PRA, and the comments we received, go to http://www.regulations.gov/fdmspublic/component/main?main=DocketDetail&d=APHIS-2011-0018.

The commenter stated that the PRA identified nine quarantine pest species that could potentially accompany shipments of fresh persimmon fruit from the Republic of South Africa into the United States and stated that the potential introduction of these pests into the commenter's State would pose a risk to the State's agriculture. The commenter suggested allowing persimmon fruit from South Africa to be shipped to States where the pests do not exist and would be less likely to establish in order to evaluate the effectiveness of the recommended mitigation measures.

The PRA, which includes a qualitative, pathway-initiated pest risk assessment and a risk management document, not only identifies nine quarantine pests that could potentially accompany shipments of fresh persimmon fruit from the Republic of South Africa but also identifies mitigation measures that will be required for this commodity to be imported into any State in the continental United States. The mitigation measures for persimmons from South Africa have been previously evaluated and proven effective for other commodities, and we will continuously monitor the effectiveness of those mitigations with port-of-entry inspections. We do not consider it necessary to prohibit the importation of a commodity based on identification of quarantine pests that could potentially accompany consignments when proven mitigations are available for this risk and will be required as a condition of importation.

Therefore, in accordance with the regulations in § 319.56-4(c)(2)(ii), we are announcing our decision to authorize the importation into the continental United States of fresh persimmon fruit from the Republic of South Africa subject to the following phytosanitary measures:

• The persimmon fruit may be imported into the continental United States in commercial consignments only.

• The persimmon fruit must be irradiated in accordance with 7 CFR part 305 with a minimum absorbed dose of 400 Gy.

• If the irradiation treatment is applied outside the United States, each consignment of fruit must be precleared by APHIS inspectors in the Republic of South Africa. The persimmon fruit must be jointly inspected by APHIS and the national plant protection organization (NPPO) of South Africa and accompanied by a phytosanitary certificate (PC) attesting that the fruit received the required irradiation treatment.

• If the irradiation treatment is to be applied upon arrival in the United States, each consignment of fruit must be inspected by the NPPO of South Africa prior to departure and accompanied by a PC.

• The commodity is subject to inspection at the U.S. port-of-entry.

These conditions will be listed in the Fruits and Vegetables Import Requirements database (available at http://www.aphis.usda.gov/favir). In addition to these specific measures, persimmon fruit from the Republic of South Africa will be subject to the general requirements listed in § 319.56-3 that are applicable to the importation of all fruits and vegetables. Further, for fruits and vegetables requiring treatment as a condition of entry, the phytosanitary treatments regulations in 7 CFR part 305 contain administrative and procedural requirements that must be observed in connection with the application and certification of specific treatments.

Authority: 7 U.S.C. 450, 7701-7772, and 7781-7786; 21 U.S.C. 136 and 136a; 7 CFR 2.22, 2.80, and 371.3.

Done in Washington, DC, this 22nd day of July 2011.
Kevin Shea,
Acting Administrator, Animal and Plant Health Inspection Service.

[FR Doc. 2011-19037 Filed 7-26-11; 8:45 am]

BILLING CODE 3410-34-P